DEPARTMENT OF JUSTICE

Notice of Lodging of Consent Decree Under the Clean Air Act, Clean Water Act, Resource Conservation and Recovery Act, and Emergency Planning and Community Right-To-Know Act

Notice is hereby given that on September 29, 2009, a proposed Consent Decree in United States v. Formosa Plastics Corporation, Texas, Formosa Hydrocarbons Company, Inc., and Formosa Plastics Corporation, Louisiana, Civil Action No. 6:09-cv-00061, was lodged with the United States District Court for the Southern District of Texas, Victoria Division.

In its complaint, the United States alleged that Defendants violated Clean Air Act (“CAA”) provisions regulating the leaks of air pollutants from chemical manufacturing equipment and emissions of vinyl chloride, Resource Conservation and Recovery Act (“RCRA”) provisions governing hazardous waste management, and Clean Water Act (“CWA”) wastewater discharge limits. The United States also alleges that Formosa Plastics Corporation, Texas violated CAA provisions regulating benzene waste operations and Emergency Planning and Community Right-to-Know Act (“EPCRA”) toxic release inventory reporting obligations. The alleged violations occurred at co-located facilities in Point Comfort, Texas, owned and operated by Formosa Plastics Corporation, Texas and Formosa Hydrocarbons Company, Inc., and a facility located in Baton Rouge, Louisiana, that is owned and operated by Formosa Plastics Corporation, Louisiana.

Under the Consent Decree, Defendants will pay a civil penalty of $2.8 million, and will implement a comprehensive leak detection and repair (“LDAR”) program, implement an innovative vinyl chloride leak detection and elimination program, perform a comprehensive assessment of benzene waste operations, implement measures to prevent future CWA violations, change RCRA hazardous waste management practices, and conduct a comprehensive assessment of toxic release reporting under EPCRA.

The Department of Justice will receive for a period of thirty (30) days from the date of this publication comments relating to the Consent Decree. Comments should be addressed to the Assistant Attorney General, Environmental and Natural Resources Division, and either e-mailed to pubcomment-ees.enrd@usdoj.gov or e-mailed to P.O. Box 7611, U.S. Department of Justice, Washington, DC 20044-7611, and should refer to United States v. Formosa Plastics Corporation, Texas, Formosa Hydrocarbons Company, Inc., and Formosa Plastics Corporation, Louisiana, D.J. Ref. 90-5-2-1-08995.

The Consent Decree may be examined at the Office of the United States Attorney, Southern District of Texas, 919 Milam Street, Houston, Texas, and at U.S. EPA Region 6, 1445 Ross Avenue, Suite 1200, Dallas, TX. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $18.50 (25 cents per page reproduction costs of Consent Decree and Appendices) payable to the U.S. Treasury or, if by e-mail or fax, forward a check in the amount to the Consent Decree Library at the stated address.

Maureen M. Katz,
Assistant Section Chief, Environmental Enforcement Section, Environment and Natural Resources Division.

[FR Doc. E9-24240 Filed 10-7-09; 8:45 am]

BILLING CODE 4410-15-P